EQUAL EMPLOYMENT OPPORTUNITY COMMISSION

Notice of Hearing on Proposed Revised Employer Information Report (EEO-1)

AGENCY: Equal Employment Opportunity Commission.

ACTION: Notice of public hearing.

SUMMARY: Notice is hereby given that the Equal Employment Opportunity Commission has scheduled a public hearing to gather information and hear public comment on its proposed revision of the Employer Information Report (EEO-1) published for public comment at 68 FR 34965 (June 11, 2003).

Time and Date: October 29, 2003; 9:30 a.m.

Place: 1801 L Street, NW, Washington, DC; Ninth Floor Commission Meeting Room.

FOR FURTHER INFORMATION CONTACT: Carol Miaskoff, Assistant Legal Counsel, Coordination Division, 1801 L Street, NW, Washington, DC 20507; (202) 663-4689 (voice) or (202) 663-7026 or Joachim Neckere, Director, Program Research and Surveys Division, 1801 L Street, NW, Room 9222, Washington, DC 20507; (202) 663-4958 (voice) or (202) 663-7063 (TDD).

SUPPLEMENTARY INFORMATION: Under section 709(c) of Title VII of the Civil Rights Act of 1964, as amended (42 U.S.C. 2000e-8(c)), the Equal Employment Opportunity Commission (EEOC) on June 11, 2003 published proposed modifications to the EEO-1 Report form used by respondents annually to classify the race and ethnicity and job categories of employees. 68 FR 34965-34969. The proposed EEO-1 Report form can be found at http://www.eeoc.gov/eeo1. The June 11, 2003 notice requested comments on the proposed changes to the EEO-1 Report and indicated that a hearing would be held. This notice sets the hearing for October 29, 2003.

Persons wishing to present their views orally at the hearing should notify the Commission of their desire to do so, in writing, postmarked or received no later than October 8, 2003. The notice should be addressed to Frances M. Hart, Executive Officer, Equal Employment Opportunity Commission, 1801 L Street, NW, Washington, DC 20507. The Executive Secretariat will accept notices transmitted by facsimile (“fax”) machine. The telephone number of the fax receiver is (202) 663-4114. (This is not a toll-free number.) Only documents of six or fewer pages will be accepted via fax transmittal. This limitation is necessary to assure access to the equipment. Receipt of a fax transmittal will not be acknowledged, except that the sender may request confirmation of receipt by calling the Executive Secretariat staff at (202) 663-4070 (voice) or (202) 663-4074 (TDD). (These are not toll-free numbers.)

The notice must include a list of all the issues you wish to address and a summary of the remarks to be offered on each issue. In addition, such persons must provide Ms. Hart with a detailed statement of their remarks suitable for inclusion in the record of the hearing, postmarked or received no later than October 15, 2003. Persons who fail to timely submit the list/summary due October 8, 2003, or the detailed statement due October 15, 2003, may not be permitted to testify. Any person who wishes to submit a written statement in lieu of testimony should submit that statement to Ms. Hart at the above address by October 25, 2003. All comments submitted in response to the prior June 11, 2003 notice will be available for review at the Commission's library, Room 6502, 1801 L Street, NW, Washington, DC 20507, between the hours of 9:30 a.m. and 5 p.m. Please call the library staff at (202) 663-4630 to make an appointment. The comments submitted in response to the June 11, 2003 notice will automatically become part of the hearing record unless the submitter directs otherwise. A person who has already submitted comments in response to the June 11, 2003 notice should not make any other submission unless he or she wants to present views orally at the hearing. In order to present views orally at the hearing, you must make new submissions complying with the October 8 and 15, 2003 due dates described above.

Because of time limitations, not all interested persons may be able to testify. EEOC will organize panels of speakers for the hearing, notifying speakers of the identity of their co-panelists and requesting that the panelists organize their testimony to fit the time period allotted. All statements received by EEOC in connection with this hearing will be available for review after November 3, 2003, at the Commission's library, Room 6502, 1801 L Street, NW, Washington, DC 20507, between the hours of 9:30 a.m. and 5 p.m.

Signed this 24th day of September, 2003.
For the Commission.
Cari M. Dominguez,
Chair.

[FR Doc. 03-24626 Filed 9-29-03; 8:45 am]

BILLING CODE 6570-01-P